NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 2, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: (301) 837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: (301) 837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food and Nutrition Service (N1-462-04-1, 4 items, 4 temporary items). Electronic copies of records created using electronic mail and word processing that are associated with investigative files accumulated by the Benefit Redemption Division. This schedule also reduces the retention period for files relating to investigations that do not result in administrative action, which were previously approved for disposal.

2. Department of Agriculture, Center for Nutrition Policy and Promotion (N1-462-04-2, 4 items, 3 temporary items). Records relating to the Family Economics and Nutrition Review Journal published by the Nutrition Policy and Analysis Staff. Included are such records as manuscripts, galley comments, acceptance and rejection letters, and routine correspondence. Also, included are electronic copies of documents created using word processing and electronic mail. Recordkeeping copies of published journals are proposed for permanent retention. Journals are published semi-annually and consist of articles pertaining to economic and nutritional issues that bear on the health and well-being of families.

3. Department of the Air Force, Agency-wide (N1-AFU-03-21, 5 items, 5 temporary items). Data, forms, and receipts used to manage room assignments, reservations, and sundry sales at base-level lodging operations. Also included are electronic copies of records created using electronic mail and word processing.

4. Department of Commerce, International Trade Administration (N1-489-04-1, 6 items, 6 temporary items). Administrative files accumulated by agency offices, including such records as working papers, files relating to proposed and final rules, and billings records. Electronic copies of records created using electronic mail and word processing are also included.

5. Department of Justice, Federal Bureau of Investigation (N1-65-04-2, 31 items, 31 temporary items). Data files and system documentation of the National Crime Information Center (NCIC) system, which is a cooperative network of documented criminal justice information hosted by the agency and used by local, State, and Federal law enforcement agencies.

6. Department of Justice, Bureau of Alcohol, Tobacco, Firearms, and Explosives (N1-436-04-2, 6 items, 3 temporary items). Outputs of the Arson and Explosives Incidents System, which is used to collect, consolidate, disseminate, and analyze bombing, arson, and explosives data. Also included are electronic copies of documents created using electronic mail and word processing. Proposed for permanent retention are the master data files relating to incidents and investigations, along with public use versions and related system documentation.

7. Department of Justice, Drug Enforcement Administration (N1-170-04-5, 2 items, 2 temporary items). Office of the Chief Counsel correspondence with Federal, State and local prosecutors' offices and related records concerning discovery motions. Also included are electronic copies of documents created using electronic mail and word processing.

8. Department of the Treasury, Bureau of Engraving and Printing (N1-318-04-10, 9 items, 8 temporary items). Records relating to financial management, including working papers used to prepare the Chief Financial Officer's annual report, records relating to credit cards issued to agency personnel, paper and electronic records documenting such matters as the collection and disbursement of funds, and documents required for financial statement audits. Also included are electronic copies of records created using electronic mail and word processing. Recordkeeping copies of the Chief Financial Officer's annual report are proposed for permanent retention.

9. Department of the Treasury, Financial Management Service (N1-425-04-1, 17 items, 17 temporary items). Inputs, outputs, system documentation, and master files of the Learning Management System, which is used to administer agency training programs. Also included are electronic copies of records created using electronic mail and word processing.

10. Department of the Treasury, Bureau of the Public Debt (N1-53-04-6, 3 items, 3 temporary items). Forms authorizing designated employees to conduct securities transactions. Records are used to ensure that the designated employees and their signatures are legitimate.

11. National Commission on Terrorist Attacks Upon the United States, Agency-wide (N1-148-04-1, 25 items, 4 temporary items). Electronic copies of public hearing transcripts and the Commission's live Web site with associated documentation. Also included are electronic copies of documents created using word processing. Proposed for permanent retention are recordkeeping copies of such records as the Commission's master files, Commission meeting files and public hearings, reports and studies, public correspondence, files accumulated by commissioners and staff, audio, video, and data recordings, a snapshot of the Commission's Web site, and electronic mail.

12. Tennessee Valley Authority, Human Resources (N1-142-04-6, 3 items, 3 temporary items). Regulatory inspection reports used to ensure compliance with Occupational Safety and Health Administration requirements. Also included are electronic copies of documents created using electronic mail and word processing.

Dated: June 8, 2004.
Michael J. Kurtz,
Assistant Archivist for Records Services—Washington, DC.

[FR Doc. 04-13774 Filed 6-17-04; 8:45 am]

BILLING CODE 7515-01-P